FEDERAL COMMUNICATIONS COMMISSION

47 CFR Part 73

[DA 99-2825; MM Docket No. 99-361; RM-9777]

Radio Broadcasting Services; Plainville and Larned, KS

AGENCY: Federal Communications Commission.

ACTION: Proposed rule.

SUMMARY: This document requests comments on a petition for rule making filed on behalf of Radio, Inc., licensee of Station KFIX(FM), Channel 245C2, Plainville, Kansas, seeking the substitution of Channel 245C1 for Channel 245C2 at Plainville, and modification of the license for Station KFIX(FM) accordingly. Additionally, to accommodate the proposed allotment of Channel 245C1 at Plainville, the Commission also proposes the substitution of Channel 255A for Channel 244A at Larned, Kansas, as requested, and modification of the license for Station KGTR(FM) to specify operation on the alternate Class A channel. Channel 245C1 can be allotted to Plainville in accordance with the minimum distance separation requirements of § 73.207(b) of the Commission's Rules at the licensed site of Station KFIX(FM) at coordinates 39-01-15 NL and 99-28-12 WL. Channel 255A can be allotted to Larned at the licensed site of Station KGTR(FM) at coordinates 38-09-54 NL and 99-06-05 WL.

DATES: Comments must be filed on or before February 7, 2000, and reply comments on or before February 22, 2000.

ADDRESSES: Secretary, Federal Communications Commission, Washington, DC 20554. In addition to filing comments with the FCC, interested parties should serve the petitioner's counsel, as follows: Susan A. Marshall and Andrew S. Kersting, Esqs., Fletcher, Heald & Hildreth, P.L.C., 1300 North Seventeenth Street, 11th Floor, Arlington, VA 22209.

FOR FURTHER INFORMATION CONTACT: Nancy Joyner, Mass Media Bureau, (202) 418-2180.

SUPPLEMENTARY INFORMATION: This is a synopsis of the Commission's Notice of Proposed Rule Making, MM Docket No. 99-361, adopted December 8, 1999, and released December 17, 1999. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, See 47 CFR 1.415 and 1.420.

List of Subjects in 47 CFR Part 73

Radio Broadcasting.

Federal Communications Commission.
John A. Karousos,
Chief, Allocations Branch, Policy and Rules Division, Mass Media Bureau.

[FR Doc. 00-1471 Filed 1-20-00; 8:45 am]

BILLING CODE 6712-01-P